DEPARTMENT OF THE INTERIOR

National Park Service

[NPS-WASO-NAGPRA-16404; PPWOCRADN0-PCU00RP14.R50000]

Notice of Intent To Repatriate Cultural Items: Thomas Burke Memorial Washington State Museum, University of Washington, Seattle, WA

AGENCY: National Park Service, Interior.

ACTION: Notice.

SUMMARY: The Thomas Burke Memorial Washington State Museum (Burke Museum), University of Washington, in consultation with the appropriate Indian tribes or Native Hawaiian organizations, has determined that the cultural items listed in this notice meet the definition of unassociated funerary objects. Lineal descendants or representatives of any Indian tribe or Native Hawaiian organization not identified in this notice that wish to claim these cultural items should submit a written request to the Burke Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Burke Museum at the address in this notice by October 15, 2014.

ADDRESSES: Dr. Peter Lape, Burke Museum, University of Washington, Box 353010, Seattle, WA 98195, telephone (206) 685-3849 x2, email plape@uw.edu.

SUPPLEMENTARY INFORMATION: Notice is here given in accordance with the Native American Graves Protection and Repatriation Act (NAGPRA), 25 U.S.C. 3005, of the intent to repatriate cultural items under the control of the Burke Museum, Seattle, WA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1929 and 1930, seven copper rod bracelets were brought to the Burke Museum by an unknown donor. The Burke Museum ledger lists these bracelets as identified by Leslie Spier, a professor of Anthropology at the University of Washington, as from “Possibly Eastern Washington.” The box in which these bracelets were stored was labeled as being from “SE. Washington Plateau Area.” The bracelets were not accessioned by the Burke Museum until 1993, under accession number 1993-1.

These bracelets and material type are typical of the cultural items found in burials in Eastern Washington and is consistent with Native American Plateau customs of burying the dead with personal adornment items. During consultation, information was provided that indicates that the aboriginal ancestors occupying the area were highly mobile and traveled the landscape for gathering resources, as well as trade, and are all part of the more broadly defined Plateau cultural community. This Plateau cultural community is represented by the Confederated Tribes and Bands of the Yakama Nation, the Confederated Tribes of the Colville Reservation, the Confederated Tribes of the Umatilla Indian Reservation (previously listed as the Confederated Tribes of the Umatilla Reservation, Oregon), the Confederated Tribes of Warm Springs Reservation of Oregon, the Nez Perce Tribe (previously listed as the Nez Perce Tribe of Idaho), and the Wanapum Band of Priest Rapids, a non-Federally recognized Indian group.

Determinations Made by the Burke Museum

Officials of the Burke Museum have determined that:

• Pursuant to 25 U.S.C. 3001(3)(B), the 7 cultural items described above are reasonably believed to have been placed with or near individual human remains at the time of death or later as part of the death rite or ceremony and are believed, by a preponderance of the evidence, to have been removed from a burial site of a Native American individual.

• Pursuant to 25 U.S.C. 3001(2), there is a relationship of shared group identity that can be reasonably traced between the unassociated funerary objects and the Confederated Tribes and Bands of the Yakama Nation, the Confederated Tribes of the Colville Reservation, the Confederated Tribes of the Umatilla Indian Reservation (previously listed as the Confederated Tribes of the Umatilla Reservation, Oregon), the Confederated Tribes of Warm Springs Reservation of Oregon, the Nez Perce Tribe (previously listed as the Nez Perce Tribe of Idaho), and the Wanapum Band of Priest Rapids, a non-Federally recognized Indian group.

Additional Requestors and Disposition

Lineal descendants or representatives of any Indian tribe or Native Hawaiian organization not identified in this notice that wish to claim these cultural items should submit a written request with information in support of the claim to Dr. Peter Lape, Burke Museum, University of Washington, Box 353010, Seattle, WA 98195, telephone (206) 685-3849 x2, email plape@uw.edu, by October 15, 2014. After that date, if no additional claimants have come forward, transfer of control of the unassociated funerary objects to the Confederated Tribes and Bands of the Yakama Nation, the Confederated Tribes of the Colville Reservation, the Confederated Tribes of the Umatilla Indian Reservation (previously listed as the Confederated Tribes of the Umatilla Reservation, Oregon), the Confederated Tribes of Warm Springs Reservation of Oregon, the Nez Perce Tribe (previously listed as the Nez Perce Tribe of Idaho), and the Wanapum Band of Priest Rapids, a non-Federally recognized Indian group, may proceed.

The Burke Museum is responsible for notifying the Confederated Tribes and Bands of the Yakama Nation, the Confederated Tribes of the Colville Reservation, the Confederated Tribes of the Umatilla Indian Reservation (previously listed as the Confederated Tribes of the Umatilla Reservation, Oregon), the Confederated Tribes of Warm Springs Reservation of Oregon, the Nez Perce Tribe (previously listed as the Nez Perce Tribe of Idaho), and the Wanapum Band of Priest Rapids, a non-Federally recognized Indian group, that this notice has been published.

Dated: August 1, 2014.
Melanie O'Brien,
Acting Manager, National NAGPRA Program.

[FR Doc. 2014-21900 Filed 9-12-14; 8:45 am]

BILLING CODE 4312-50-P